INTERNATIONAL TRADE COMMISSION

[Investigation No. 332-478; Investigation No. 332-491]

U.S.-China Trade: Implications of U.S.-Asia-Pacific Trade and Investment Trends; China: Government Policies Affecting U.S. Trade in Selected Sectors

AGENCY: United States International Trade Commission.

ACTION: Termination of investigations.

SUMMARY: Pursuant to a request from the Chairman of the House Committee on Ways and Means, the Commission has terminated investigations No. 332-478, U.S.-China Trade: Implications of U.S.-Asia-Pacific Trade and Investment Trends, and No. 332-491, China: Government Policies Affecting U.S. Trade in Selected Sectors. Both investigations had been requested by the Committee on Ways and Means.

ADDRESSES: All Commission offices are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Information may be obtained from William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). The public record for this investigation may be viewed on the Commission's electronic docket (EDIS-ONLINE) at http://www.usitc.gov/secretary/edis.htm. Persons with mobility impairments who will need special assistance in gaining access to the Commission should contact the Office of the Secretary at 202-205-2000.

By order of the Commission.
Issued: July 15, 2008.
Marilyn R. Abbott,
Secretary to the Commission.

[FR Doc. E8-16480 Filed 7-17-08; 8:45 am]

BILLING CODE 7020-02-P